DEPARTMENT OF LABOR

Employment and Training Administration

Notice of Revised Determination on Reconsideration

TA-W-74,551

Vaughan Furniture Company, Inc., Vaughan Administrative Building, 816 Glendale Road, Galax, Virginia

TA-W-74,551A

Vaughan Furniture Company, Inc., B.C. Vaughan Factory/Chestnut Creek Veneer Building, 255 Creekview Drive, Galax, Virginia

TA-W-74,551B

Vaughan Furniture Company, Inc., T.G. Vaughan Distribution Center, 100 T.G. Vaughan, Jr. Road, Galax, Virginia

On December 3, 2010, the Department of Labor issued an Affirmative Determination Regarding Application for Reconsideration for workers of Vaughn Furniture Company, Inc., 816 Glendale Road, Galax, Virginia. The Department's Notice was published in the Federal Register on December 13, 2010 (75 FR 77664). The subject workers supplied services in support of furniture production.

The workers at Vaughan Administrative Building (TA-W-74,551) supply support services to B.C. Vaughan Factory/Chestnut Creek Veneer Building (TA-W-74,551A) and T.G. Vaughan Distribution Center (TA-W-74,551B). The workers at all three locations are engaged in employment related to the production of furniture.

Workers at the 255 Creekview Drive facility who were separated on/after October 3, 2006 through October 12, 2009 are eligible to apply for Trade Adjustment Assistance and Alternative Trade Adjustment Assistance under TA-W-62,250 (Vaughan Furniture Company, Inc., 255 Creekview Drive, Galax, Virginia).

The investigation revealed that the three aforementioned worker groups of Vaughan Furniture Company, Inc., Galax, Virginia, have met the criteria for certification.

More than five percent of workers at each of the Galax, Virginia facilities have been totally or partially separated, or threatened with such separation.

Vaughan Furniture Company, Inc. had shifted to a foreign country the production of articles like or directly competitive with furniture produced by the subject firm in Galax, Virginia.

The shift of production contributed importantly to the separations within the three aforementioned worker groups of Vaughan Furniture Company, Inc., Galax, Virginia.

Conclusion

After careful review of the facts obtained in the reconsideration investigation, I determine that the three aforementioned worker groups of Vaughan Furniture Company, Inc., Galax, Virginia, meet the worker group certification criteria under Section 222(a) of the Act, 19 U.S.C. 2272(a). In accordance with Section 223 of the Act, 19 U.S.C. 2273, I make the following certification:

“All workers of Vaughn Furniture Company, Inc., Vaughan Administrative Building, 816 Glendale Road, Galax, Virginia (TA-W-74,551) and Vaughn Furniture Company, Inc., T.G. Vaughan Distribution Center, 100 T.G. Vaughan, Jr. Road, Galax, Virginia (TA-W-74,551B) who became totally or partially separated from employment on or after August 17, 2009, through two years from the date of certification, and all workers in the group threatened with total or partial separation from employment on date of certification through two years from the date of certification, are eligible to apply for adjustment assistance under Chapter 2 of Title II of the Trade Act of 1974, as amended; and all workers of Vaughn Furniture Company, Inc., B.C. Vaughan Factory/Chestnut Creek Veneer Building, Galax, Virginia (TA-W-74,551A), who became totally or partially separated from employment on or after October 13, 2009, through two years from the date of certification, and all workers in the group threatened with total or partial separation from employment on date of certification through two years from the date of certification, are eligible to apply for adjustment assistance under Chapter 2 of Title II of the Trade Act of 1974, as amended.”

Signed in Washington, DC this 30th day of March, 2011.
Del Min Amy Chen,
Certifying Officer, Office of Trade Adjustment Assistance.

[FR Doc. 2011-8497 Filed 4-8-11; 8:45 am]

BILLING CODE 4510-FN-P